NATIONAL SCIENCE FOUNDATION

Sunshine Act Meetings

Federal Register CITATION OF PREVIOUS ANNOUNCEMENT: The two meetings described here were noticed on April 28, 2023, at 88 FR 26347.

PREVIOUSLY ANNOUNCED TIME AND DATE OF THE MEETING:

Wednesday, May 3, 2023, from 2:00-3:00 p.m. EDT.

Monday, May 8, 2023, from 1:00-5:00 p.m. EDT.

CHANGES IN THE MEETING:

The May 3, 2023, meeting is CANCELLED.

The agenda item from that meeting, Antarctic Infrastructure Recapitalization (AIR) Program, is ADDED to the Monday, May 8, 2023, meeting.

CONTACT PERSON FOR MORE INFORMATION: Point of contact for this meeting is: Chris Blair, cblair@nsf.gov, 703/292-7000.

Christopher Blair,
Executive Assistant to the National Science Board Office.

[FR Doc. 2023-09557 Filed 5-2-23; 11:15 am]

BILLING CODE 7555-01-P